Proclamation 9320 of September 11, 2015

National Hispanic-Serving Institutions Week, 2015

By the President of the United States of America

A Proclamation

Our higher education system is one of the crown jewels of our Nation, and investing in it is a hallmark of America. In an economy where knowledge is the most valuable asset, the best way to get ahead and ensure mobility to the middle class is to earn a college degree. Hispanic-Serving Institutions (HSIs) help make the promise a college education provides a reality for many Hispanic students across our country, enabling them to secure a better future for themselves and their families. This week, let us recognize the tremendous impact these institutions have and rededicate ourselves to continuing our support of their valuable work.

An education can broaden horizons and empower us to be better people and better citizens, and no one should be left out of that opportunity. Roughly one-quarter of students in our Nation's public schools today are Hispanic, yet less than one-fifth of Hispanics in the United States have a college degree. HSIs help address this disparity, moving us closer to the day when we have the highest proportion of college graduates in the world. HSIs serve more than half of our Nation's undergraduate Hispanics, and they work to provide more Americans—especially low- and middle-income students—with the chance to thrive in an institution of higher learning.

Hispanics are projected to account for almost one-third of our Nation's population by 2060, and ensuring they have access to the best education possible is important to securing America's success. In the last few years, we have seen the dropout rates for Hispanics significantly decrease, while college enrollment has steadily risen. But more work remains to be done to ensure all our people can realize the American dream, and that is why my Administration has pledged $1 billion in funding over the course of this decade to support HSIs. Additionally, I announced a plan that would open doors of opportunity for millions of people by making community college free for responsible students willing to work hard—because in America, nobody should be denied a college education simply because they do not have the resources to pay for it.

At the heart of our country is a basic bargain: that with determination and grit, you can get ahead—no matter who you are, what you look like, or where you come from. By working to provide many Hispanics with the chance they deserve to get a higher education, HSIs embody this truth and pull the country we all call home a little closer to its founding ideals: that all of us are created equal and all of us should have the chance to make of our lives what we will. This week, let us recommit to strengthening these institutions and pledge our support to all who attend them.

NOW, THEREFORE, I, BARACK OBAMA, President of the United States of America, by virtue of the authority vested in me by the Constitution and the laws of the United States, do hereby proclaim September 14 through September 20, 2015, as National Hispanic-Serving Institutions Week. I call on public officials, educators, and all the people of the United States to observe this week with appropriate programs, ceremonies, and activities that acknowledge the many ways these institutions and their graduates contribute to our country.

IN WITNESS WHEREOF, I have hereunto set my hand this eleventh day of September, in the year of our Lord two thousand fifteen, and of the Independence of the United States of America the two hundred and fortieth.

[FR Doc. 2015-23492

Filed 9-16-15; 8:45 am]

Billing code 3295-F5-P